DEPARTMENT OF COMMERCE

National Telecommunications and Information Administration

Internet Assigned Numbers Authority Stewardship Transition Consolidated Proposal and Internet Corporation for Assigned Names and Numbers Accountability Enhancements; Request for Comments

AGENCY: National Telecommunications and Information Administration (NTIA), U.S. Department of Commerce.

ACTION: Notice of public comment.

SUMMARY: This notice announces the dates of a comment period during which the public is invited to provide input on two interrelated multistakeholder community proposals. Together, the proposals set forth a plan for transitioning NTIA's stewardship role over the Internet Assigned Numbers Authority (IANA) functions. The purpose of this notice is to encourage interested parties to comment on the two connected proposals—the IANA Stewardship Transition Plan and the Enhancements to Internet Corporation for Assigned Names and Numbers (ICANN) Accountability Related to the IANA Stewardship Transition. NTIA will utilize the input provided in making its determination of whether the proposals have received broad community support and whether the plan satisfies the criteria required to transition its stewardship role.

DATES: Comments on the IANA Stewardship Transition Plan are due on or before September 8, 2015; comments on the Enhancements to ICANN Accountability are due on or before September 12, 2015.

ADDRESSES: Written comments on the IANA Stewardship Transition Proposal should be submitted at https://www.ianacg.org/calls-for-input/combined-proposal-public-comment-period/. Written comments on the proposed Enhancements to ICANN's Accountability should be submitted at https://www.icann.org/public-comments/ccwg-accountability-2015-08-03-en.

FOR FURTHER INFORMATION CONTACT: Ashley Heineman, National Telecommunications and Information Administration, U.S. Department of Commerce, 1401 Constitution Avenue NW., Room 4701, Washington, DC 20230; telephone (202) 482-0298; email aheineman@ntia.doc.gov. Please direct media inquiries to NTIA's Office of Public Affairs, (202) 482-7002; email press@ntia.doc.gov.

SUPPLEMENTARY INFORMATION:

Background

A July 1, 1997, Executive Memorandum directed the Secretary of Commerce to privatize the Internet's domain name system (DNS) in a manner that increases competition and facilitates international participation in its management.¹ To fulfill this Presidential Directive, the Department of Commerce issued a Statement of Policy on June 10, 1998, stating that the U.S. Government “is committed to a transition that will allow the private sector to take leadership for DNS management.” ² On March 14, 2014, NTIA announced its intent to complete the privatization of the DNS.³ In that announcement, NTIA called upon ICANN to convene a multistakeholder process to develop the transition plan.⁴ While looking to stakeholders and those most directly served by the IANA functions to work through the technical details, NTIA established a clear framework to guide the discussion. Specifically, NTIA communicated to ICANN that the transition proposal must have broad community support and address the following four principles:

¹ Memorandum on Electronic Commerce, 2 Pub. Papers 898 (July 1, 1997).

² National Telecommunications and Information Administration, Management of Internet Names and Addresses, 63 FR 31741 (June 10, 1998), available at http://www.ntia.doc.gov/federal-register-notice/1998/statement-policy-management-internet-names-and-addresses.

³ See NTIA's authorities, 15 U.S.C. 1512; 47 U.S.C. 902(b)(2)(H).

⁴ NTIA Announces Intent to Transition Key Internet Domain Name Functions (Mar. 14, 2014) available at http://www.ntia.doc.gov/press-release/2014/ntia-announces-intent-transition-key-internet-domain-name-functions.

• Support and enhance the multistakeholder model;

• Maintain the security, stability, and resiliency of the Internet DNS;

• Meet the needs and expectation of the global customers and partners of the IANA services; and

• Maintain the openness of the Internet.

Consistent with the clear policy expressed in bipartisan resolutions of the U.S. Senate and House of Representatives ⁵—which affirmed the United States support for the multistakeholder model of Internet governance—NTIA stated that it will not accept a proposal that replaces the NTIA role with a government-led or an inter-governmental organization solution. In response to NTIA's announcement, the community mobilized two efforts. First, the IANA customer communities took responsibility to develop an IANA stewardship transition plan, coordinated by an IANA-Stewardship Coordination Group (ICG).⁶ Second, the community undertook to develop ICANN accountability enhancements deemed necessary prior to the transition of NTIA's stewardship role. These accountability enhancements are being developed through a Cross Community Working Group on Enhancing ICANN Accountability (CCWG-Accountability).⁷

⁵ A concurrent resolution expressing the sense of Congress regarding actions to preserve and advance the multistakeholder governance model under which the Internet has thrived, 112th Cong. 2nd sess. S.Con.Res.50 and H.Con.Res.127 (2012).

⁶ See IANA Stewardship Transition Coordination Group, available at https://www.ianacg.org/.

⁷ See CCWG on Enhancing ICANN Accountability, available at https://community.icann.org/display/acctcrosscomm/CCWG+on+Enhancing+ICANN+Accountability.

The ICG and CCWG are now seeking public comment on their respective recommendations. Comments provided will be used by NTIA to determine whether the proposals satisfy NTIA's criteria and have received broad community support. Comments will also be considered in any NTIA certification before the U.S. Congress that may be required prior to terminating the existing IANA functions contract currently in place between NTIA and ICANN.⁸ To ensure that all views are taken into consideration, NTIA encourages interested parties—including U.S.-based stakeholders—to file written comments by the deadline.

⁸ DOTCOM Act of 2015, H.R. 805 and S. 1551, 114th Cong. (2015).

Dated: August 4, 2015.
Angela Simpson,
Deputy Assistant Secretary, National Telecommunications and Information Administration.

[FR Doc. 2015-19525 Filed 8-7-15; 8:45 am]

BILLING CODE 3510-60-P